ENVIRONMENTAL PROTECTION AGENCY

[ER-FRL-8989-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/. An explanation of the ratings assigned to draft environmental impact statements (EISs) was published in FR dated July 17, 2009 (74 FR 34754).

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Draft EISs

EIS No. 20090429, ERP No. D-IBR-L39067-ID, Minidoka Dam Spillway Replacement Project, To Prevent Structural Failure of the Minidoka Dam Spillway and Canal Headworks, Lake Walcott, Minidoka County, ID.

Summary: EPA expressed environmental concerns about water quality impacts, the potential extent of jurisdictional wetlands, and the extent to which the wetlands below the dam would be monitored and adaptively managed. Rating EC1.

EIS No. 20090432, ERP No. D-NPS-D65042-DC, National Mall Plan, To Prepare a Long-Term Plan that will Restore National Mall, Implementation, Washington, DC.

Summary: EPA expressed environmental concerns about impacts to water resources, fish and wildlife, and soils. Rating EC2.

EIS No. 20090436, ERP No. D-AFS-L65525-OR, Canyon Fuels and Vegetation Management Project, Proposed Fuels and Vegetation Treatment to Reduce the Risk of Stand Loss Due to Overly Dense Stand Conditions, Lookout Mountain Ranger District, Ochoco National Forest, Crook County, OR.

Summary: EPA expressed environmental concerns about water quality and habitat impacts, and recommend the inclusion of additional information on riparian harvest prescriptions and grazing management in riparian habitat conservation areas. Rating EC1.

EIS No. 20100004, ERP No. D-NOA-A91078-00, Amendment 11 to the Atlantic Mackerel, Squid, and Butterfish (MSB), Fishery Management Plan (FMP), Establish an Atlantic Mackerel Limited Access Program, Implementation.

Summary: EPA does not object to the proposed action. Rating LO.

EIS No. 20100005, ERP No. DS-FHW-F40427-WI, WI-23 Highway Project, Transportation Improve between Fond du Lac and Plymouth, Fond du Lac and Sheboygan Counties, WI.

Summary: EPA expressed environmental concerns about wetlands, air quality, upland habitat, noise, and cumulative impacts. Rating EC2.

EIS No. 20100028, ERP No. DS-AFS-J65146-WY, Bridger-Teton National Forest, Proposal to Determine What Terms and Conditions to Allow Development of Oil and Gas Leasing in the Wyoming Range, Sublette County, WY.

Summary: EPA does not object to the proposed action. Rating LO.

Final EISs

EIS No. 20100020, ERP No. F-FTA-G59002-TX, University Corridor Fixed Guideway Project, To Implement Transit Improvements from Hillcroft Transit Center to the Vicinity of the University of Houston (UH)—Central Campus or the Eastwood Transit Center, City of Houston, Harris County, TX.

Summary: No formal comment letter was sent to the preparing agency.

EIS No. 20100025, ERP No. F-COE-E30043-NC, North Topsail Beach Shoreline Protection Project, Seeking Federal and State Permits to Allow Implementation of a Non-Federal Shoreline and Inlet Management Project, New River Inlet, Onslow County, NC.

Summary: EPA expressed environmental concerns about the impacts to marine habitats and migratory species from dredge/fill actions.

EIS No. 20100026, ERP No. F-NOA-E91029-00, Amendment 31 to the Fishery Management Plan for Reef Fish Resources, Addresses Bycatch of Sea Turtles in the Bottom Longline Component of the Reef Fish Fishery, Gulf of Mexico.

Summary: While EPA continues to support the reduction of sea turtle bycatch in bottom longline Reef Fish Fishery proposed by Amendment 31, EPA expressed concern that additional research is needed to supplement the proposed actions to successfully reduce turtle bycatch.

EIS No. 20100043, ERP No. F-FHW-H40194-IA, Southeast (SE) Connector in Des Moines, Iowa, To Provide a Safe and Efficient Link between the MLK Jr. Parkway at SE 14th Street to the U.S. 65 Bypass, Funding, US Army COE Section 404 and NPDES Permits, Polk County, IA.

Summary: EPA's previous comments have been addressed; therefore, EPA does not object to the proposed action.

Dated: March 23, 2010.
Kenneth Mittelholtz,
Deputy Director, NEPA Compliance Division, Office of Federal Activities.

[FR Doc. 2010-6771 Filed 3-25-10; 8:45 am]

BILLING CODE 6560-50-P